FEDERAL MARITIME COMMISSION

Ocean Transportation Intermediary License; Revocations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 2696N.

Name: Burnham Service Company, Inc.

Address: P.O. Box 7966, Columbus, GA 31829

Date Revoked: September 22, 2000.

Reason: Failed to maintain a valid bond.

License Number: 0916F.

Name: J.D. Smith Co., Inc.

Address: Brooklyn Navy Yard, Building #3, 11th Floor, Brooklyn, NY 11205.

Date Revoked: September 18, 2000.

Reason: Failed to maintain a valid bond.

Sandra L. Kusumoto,
Director, Bureau of Consumer Complaints and Licensing.

[FR Doc. 00-26777 Filed 10-17-00; 8:45 am]

BILLING CODE 6730-01-P